DEPARTMENT OF ENERGY

Federal Energy Regulatory Commission

Combined Notice of Filings

Take notice that the Commission has received the following Natural Gas Pipeline Rate and Refund Report filings:

Filings Instituting Proceedings

Docket Numbers: RP13-1175-000.

Applicants: Transwestern Pipeline Company, LLC.

Description: ACA Compliance Filing on 8-1-2013 to be effective 10/1/2013.

Filed Date: 8/1/13.

Accession Number: 20130801-5054.

Comments Due: 5 p.m. ET 8/13/13.

Docket Numbers: RP13-1176-000.

Applicants: Gulf States Transmission LLC.

Description: GST ACA Compliance Filing on 8-1-2013 to be effective 10/1/2013.

Filed Date: 8/1/13.

Accession Number: 20130801-5056.

Comments Due: 5 p.m. ET 8/13/13.

Docket Numbers: RP13-1177-000.

Applicants: Garden Banks Gas Pipeline, LLC.

Description: Compliance with New ACA Requirements to be effective 10/1/2013.

Filed Date: 8/1/13.

Accession Number: 20130801-5058.

Comments Due: 5 p.m. ET 8/13/13.

Docket Numbers: RP13-1178-000.

Applicants: MoGas Pipeline LLC.

Description: MoGas ACA Filing to be effective 10/1/2013.

Filed Date: 8/1/13.

Accession Number: 20130801-5059.

Comments Due: 5 p.m. ET 8/13/13.

Docket Numbers: RP13-1179-000.

Applicants: Mississippi Canyon Gas Pipeline, L.L.C.

Description: ACA Compliance Filing to be effective 10/1/2013.

Filed Date: 8/1/13.

Accession Number: 20130801-5060.

Comments Due: 5 p.m. ET 8/13/13.

Docket Numbers: RP13-1180-000.

Applicants: Wyoming Interstate Company, L.L.C.

Description: FL&U Filing Effective September 1, 2013 to be effective 9/1/2013.

Filed Date: 8/1/13.

Accession Number: 20130801-5061.

Comments Due: 5 p.m. ET 8/13/13.

Docket Numbers: RP13-1181-000.

Applicants: Nautilus Pipeline Company, L.L.C.

Description: Compliance with New ACA Requirements to be effective 10/1/2013.

Filed Date: 8/1/13.

Accession Number: 20130801-5062.

Comments Due: 5 p.m. ET 8/13/13.

Docket Numbers: RP13-1182-000.

Applicants: Stingray Pipeline Company, L.L.C.

Description: ACA Compliance to be effective 10/1/2013.

Filed Date: 8/1/13.

Accession Number: 20130801-5064.

Comments Due: 5 p.m. ET 8/13/13.

Docket Numbers: RP13-1183-000.

Applicants: KO Transmission Company.

Description: Order No. 776 Compliance Filing to be effective 10/1/2013.

Filed Date: 8/1/13.

Accession Number: 20130801-5073.

Comments Due: 5 p.m. ET 8/13/13.

Docket Numbers: RP13-1184-000.

Applicants: Kinder Morgan Illinois Pipeline LLC.

Description: ACA Filing to be effective 10/1/2013.

Filed Date: 8/1/13.

Accession Number: 20130801-5074.

Comments Due: 5 p.m. ET 8/13/13.

Docket Numbers: RP13-1185-000.

Applicants: Transcontinental Gas Pipe Line Company.

Description: 2013 TGPL ACA Filing to be effective 10/1/2013.

Filed Date: 8/1/13.

Accession Number: 20130801-5075.

Comments Due: 5 p.m. ET 8/13/13.

Docket Numbers: RP13-1186-000.

Applicants: Questar Southern Trails Pipeline Company.

Description: QSTP Order 776 ACA Compliance Filing to be effective 10/1/2013.

Filed Date: 8/1/13.

Accession Number: 20130801-5076.

Comments Due: 5 p.m. ET 8/13/13.

Docket Numbers: RP13-1187-000.

Applicants: White River Hub, LLC.

Description: WRH Order 776 ACA Compliance Filing to be effective 10/1/2013.

Filed Date: 8/1/13.

Accession Number: 20130801-5077.

Comments Due: 5 p.m. ET 8/13/13.

Docket Numbers: RP13-1188-000.

Applicants: Young Gas Storage Company, Ltd.

Description: 2013 ACA Compliance Filing to be effective 10/1/2013.

Filed Date: 8/1/13.

Accession Number: 20130801-5078.

Comments Due: 5 p.m. ET 8/13/13.

Docket Numbers: RP13-1189-000.

Applicants: Northern Natural Gas Company.

Description: 20130801 ACA Compliance to be effective 10/1/2013.

Filed Date: 8/1/13.

Accession Number: 20130801-5081.

Comments Due: 5 p.m. ET 8/13/13.

Docket Numbers: RP13-1190-000.

Applicants: Discovery Gas Transmission LLC.

Description: ACA Compliance Filing to be effective 10/1/2013.

Filed Date: 8/1/13.

Accession Number: 20130801-5082.

Comments Due: 5 p.m. ET 8/13/13.

Docket Numbers: RP13-1191-000.

Applicants: Kinder Morgan Louisiana Pipeline LLC.

Description: ACA Filing to be effective 10/1/2013.

Filed Date: 8/1/13.

Accession Number: 20130801-5083.

Comments Due: 5 p.m. ET 8/13/13.

Docket Numbers: RP13-1192-000.

Applicants: Midcontinent Express Pipeline LLC.

Description: ACA Filing to be effective 10/1/2013.

Filed Date: 8/1/13.

Accession Number: 20130801-5089.

Comments Due: 5 p.m. ET 8/13/13.

Docket Numbers: RP13-1193-000.

Applicants: Destin Pipeline Company, L.L.C.

Description: ACA Filing—2013 to be effective 10/1/2013.

Filed Date: 8/1/13.

Accession Number: 20130801-5090.

Comments Due: 5 p.m. ET 8/13/13.

Docket Numbers: RP13-1194-000.

Applicants: Black Marlin Pipeline Company.

Description: 2013 ACA Filing to be effective 10/1/2013.

Filed Date: 8/1/13.

Accession Number: 20130801-5091.

Comments Due: 5 p.m. ET 8/13/13.

Docket Numbers: RP13-1195-000.

Applicants: Iroquois Gas Transmission System, L.P.

Description: Iroquois Gas Transmission System, L.P. submits ACA 2013 to be effective 10/1/2013.

Filed Date: 8/1/13.

Accession Number: 20130801-5095.

Comments Due: 5 p.m. ET 8/13/13.

Docket Numbers: RP13-1196-000.

Applicants: Tennessee Gas Pipeline Company, L.L.C.

Description: ACA 2013—remove from rates to be effective 10/1/2013.

Filed Date: 8/1/13.

Accession Number: 20130801-5105.

Comments Due: 5 p.m. ET 8/13/13.

Docket Numbers: RP13-1197-000.

Applicants: Apache Corporation, Fieldwood Energy LLC.

Description: Joint Petition for Temporary Waiver of Commission Policies, Capacity Release Regulations and Related Tariff Provisions and Request for Expedited Action and Shortened Comment Period of Apache Corporation and Fieldwood Energy LLC.

Filed Date: 8/1/13.

Accession Number: 20130801-5107.

Comments Due: 5 p.m. ET 8/8/13.

Docket Numbers: RP13-1198-000.

Applicants: Horizon Pipeline Company, L.L.C.

Description: ACA Filing to be effective 10/1/2013.

Filed Date: 8/1/13.

Accession Number: 20130801-5110.

Comments Due: 5 p.m. ET 8/13/13.

Docket Numbers: RP13-1199-000.

Applicants: Ruby Pipeline, L.L.C.

Description: ACA Compliance Filing to be effective 10/1/2013.

Filed Date: 8/1/13.

Accession Number: 20130801-5136.

Comments Due: 5 p.m. ET 8/13/13.

Docket Numbers: RP13-1200-000.

Applicants: El Paso Natural Gas Company, L.L.C.

Description: ACA Compliance Filing to be effective 10/1/2013.

Filed Date: 8/1/13.

Accession Number: 20130801-5139.

Comments Due: 5 p.m. ET 8/13/13.

Docket Numbers: RP13-1201-000.

Applicants: Viking Gas Transmission Company.

Description: ACA Compliance to be effective 10/1/2013.

Filed Date: 8/1/13.

Accession Number: 20130801-5149.

Comments Due: 5 p.m. ET 8/13/13.

Docket Numbers: RP13-1202-000.

Applicants: WTG Hugoton, LP.

Description: WTGH Address Change Filing (August 1, 2013) to be effective 9/1/2013.

Filed Date: 8/1/13.

Accession Number: 20130801-5153.

Comments Due: 5 p.m. ET 8/13/13.

Docket Numbers: RP13-1203-000.

Applicants: OkTex Pipeline Company, L.L.C.

Description: ACA Compliance to be effective 10/1/2013.

Filed Date: 8/1/13.

Accession Number: 20130801-5157.

Comments Due: 5 p.m. ET 8/13/13.

Docket Numbers: RP13-1204-000.

Applicants: Midwestern Gas Transmission Company.

Description: ACA Compliance to be effective 10/1/2013.

Filed Date: 8/1/13.

Accession Number: 20130801-5160.

Comments Due: 5 p.m. ET 8/13/13.

Docket Numbers: RP13-1205-000.

Applicants: Questar Pipeline Company.

Description: QPC Order 776 ACA Compliance Filing to be effective 10/1/2013.

Filed Date: 8/1/13.

Accession Number: 20130801-5162.

Comments Due: 5 p.m. ET 8/13/13.

Docket Numbers: RP13-1206-000.

Applicants: Guardian Pipeline, L.L.C.

Description: ACA Compliance to be effective 10/1/2013.

Filed Date: 8/1/13.

Accession Number: 20130801-5164.

Comments Due: 5 p.m. ET 8/13/13.

Docket Numbers: RP13-1207-000.

Applicants: Colorado Interstate Gas Company, L.L.C.

Description: ACA Compliance Filing to be effective 10/1/2013.

Filed Date: 8/1/13.

Accession Number: 20130801-5169.

Comments Due: 5 p.m. ET 8/13/13.

Docket Numbers: RP13-1208-000.

Applicants: Cheyenne Plains Gas Pipeline Company, L.

Description: ACA Compliance Filing to be effective 10/1/2013.

Filed Date: 8/1/13.

Accession Number: 20130801-5172.

Comments Due: 5 p.m. ET 8/13/13.

Docket Numbers: RP13-1209-000.

Applicants: Dominion Cove Point LNG, LP.

Description: DCP—ACA Compliance to be effective 10/1/2013.

Filed Date: 8/1/13.

Accession Number: 20130801-5177.

Comments Due: 5 p.m. ET 8/13/13.

Docket Numbers: RP13-1210-000.

Applicants: Wyoming Interstate Company, L.L.C.

Description: ACA Compliance Filing to be effective 10/1/2013.

Filed Date: 8/1/13.

Accession Number: 20130801-5184.

Comments Due: 5 p.m. ET 8/13/13.

Docket Numbers: RP13-1211-000.

Applicants: Hardy Storage Company, LLC.

Description: ACA 2013 to be effective 10/1/2013.

Filed Date: 8/1/13.

Accession Number: 20130801-5191.

Comments Due: 5 p.m. ET 8/13/13.

Docket Numbers: RP13-1212-000.

Applicants: Dominion Transmission, Inc.

Description: DTI—ACA Compliance to be effective 10/1/2013.

Filed Date: 8/1/13.

Accession Number: 20130801-5196.

Comments Due: 5 p.m. ET 8/13/13.

Docket Numbers: RP13-1213-000.

Applicants: TransColorado Gas Transmission Company L.

Description: ACA Compliance Filing to be effective 10/1/2013.

Filed Date: 8/1/13.

Accession Number: 20130801-5218.

Comments Due: 5 p.m. ET 8/13/13.

Docket Numbers: RP13-1214-000.

Applicants: Columbia Gas Transmission, LLC.

Description: ACA 2013 to be effective 10/1/2013.

Filed Date: 8/1/13.

Accession Number: 20130801-5222.

Comments Due: 5 p.m. ET 8/13/13.

Docket Numbers: RP13-1215-000.

Applicants: Central Kentucky Transmission Company.

Description: ACA 2013 to be effective 10/1/2013.

Filed Date: 8/1/13.

Accession Number: 20130801-5224.

Comments Due: 5 p.m. ET 8/13/13.

Docket Numbers: RP13-1216-000.

Applicants: Columbia Gulf Transmission, LLC.

Description: ACA 2013 to be effective 10/1/2013.

Filed Date: 8/1/13.

Accession Number: 20130801-5227.

Comments Due: 5 p.m. ET 8/13/13.

Docket Numbers: RP13-1217-000.

Applicants: Crossroads Pipeline Company.

Description: ACA 2013 to be effective 10/1/2013.

Filed Date: 8/1/13.

Accession Number: 20130801-5236.

Comments Due: 5 p.m. ET 8/13/13.

Docket Numbers: RP13-1218-000.

Applicants: Mojave Pipeline Company, LLC.

Description: ACA 2013 Compliance Filing to be effective 10/1/2013.

Filed Date: 8/1/13.

Accession Number: 20130801-5244.

Comments Due: 5 p.m. ET 8/13/13.

Docket Numbers: RP13-1219-000.

Applicants: Paiute Pipeline Company.

Description: ACA Filing to be effective 10/1/2013.

Filed Date: 8/1/13.

Accession Number: 20130801-5248.

Comments Due: 5 p.m. ET 8/13/13.

Docket Numbers: RP13-1220-000.

Applicants: Natural Gas Pipeline Company of America.

Description: Tenaska Gas Storage LPS_RO to be effective 8/3/2013.

Filed Date: 8/2/13.

Accession Number: 20130802-5026.

Comments Due: 5 p.m. ET 8/14/13.

Docket Numbers: RP13-1221-000.

Applicants: Empire Pipeline, Inc.

Description: ACA Filing_Order No. 776 (Empire) to be effective 10/1/2013.

Filed Date: 8/2/13.

Accession Number: 20130802-5080.

Comments Due: 5 p.m. ET 8/14/13.

Docket Numbers: RP13-1222-000.

Applicants: Millennium Pipeline Company, LLC.

Description: ACA 2013 to be effective 10/1/2013.

Filed Date: 8/2/13.

Accession Number: 20130802-5093.

Comments Due: 5 p.m. ET 8/14/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-556-002.

Applicants: Gulf Shore Energy Partners, LP.

Description: Gulf Shore Energy Partners, LP GAS TARIFF ORIGINAL VOLUME NO. 1—Compliance to be effective 8/1/2013.

Filed Date: 8/1/13.

Accession Number: 20130801-5241.

Comments Due: 5 p.m. ET 8/13/13.

Docket Numbers: RP13-714-002.

Applicants: Hardy Storage Company, LLC.

Description: Hardy Stipulation and Agreements to be effective 12/31/9998.

Filed Date: 8/1/13.

Accession Number: 20130801-5249.

Comments Due: 5 p.m. ET 8/13/13.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated August 2, 2013.
Nathaniel J. Davis, Sr.,
Deputy Secretary.

[FR Doc. 2013-19578 Filed 8-13-13; 8:45 am]

BILLING CODE 6717-01-P